DEPARTMENT OF COMMERCE

International Trade Administration

[A-570-890]

Wooden Bedroom Furniture From the People's Republic of China: Extension of Preliminary Results of Antidumping Duty New Shipper Review

AGENCY: Import Administration, International Trade Administration, Department of Commerce.

EFFECTIVE DATE: August 27, 2010.

FOR FURTHER INFORMATION CONTACT: Jeffrey Pedersen or Rebecca Pandolph, AD/CVD Operations, Office 4, Import Administration, International Trade Administration, U.S. Department of Commerce, 14th Street and Constitution Avenue, NW, Washington, DC 20230; telephone: (202) 482-2769 or (202) 482-3627, respectively.

SUPPLEMENTARY INFORMATION:

Background

On March 5, 2010, the Department of Commerce (“Department”) published a notice of initiation of new shipper reviews of the antidumping duty order on wooden bedroom furniture from the People's Republic of China. See Wooden Bedroom Furniture from the People's Republic of China: Initiation of Antidumping Duty New Shipper Reviews, 75 FR 10214 (March 5, 2010). The period of the reviews is January 1, 2009, through December 31, 2009. The preliminary results of the new shipper reviews are currently due no later than August 28, 2010.

Extension of Time Limits for Preliminary Results

Section 751(a)(2)(B)(iv) of the Tariff Act of 1930, as amended (“Act”), and 19 CFR 351.214(i)(1) require the Department to issue the preliminary results in a new shipper review of an antidumping duty order 180 days after the date on which the review is initiated. The Department may, however, extend the deadline for completion of the preliminary results of a new shipper review to 300 days if it determines that the case is extraordinarily complicated. See section 751(a)(2)(B)(iv) of the Act and 19 CFR 351.214(i)(2).

The Department finds that these new shipper reviews are extraordinarily complicated and, therefore, it requires additional time to complete the preliminary results. Specifically, the Department requires additional time to examine surrogate value information in these reviews. The Department's ability to examine this information has been limited because of the considerable resources required to complete the final results of the recent administrative review of the antidumping duty order on wooden bedroom furniture from the People's Republic of China. Accordingly, we are extending the time for the completion of the final results of these reviews by 120 days, until December 26, 2010. However, December 26, 2010, falls on a Sunday, and it is the Department's long-standing practice to issue a determination on the next business day when the statutory deadline falls on a weekend. See Notice of Clarification: Application of “Next Business Day” Rule for Administrative Determination Deadlines Pursuant to the Tariff Act of 1930, As Amended, 70 FR 24533 (May 10, 2005). Accordingly, the deadline for completion of the final results of these reviews is now no later than December 27, 2010.

This notice is published in accordance with section 751(a)(2)(B)(iv) of the Act and 19 CFR 351.214(i)(2).

Date: August 23, 2010.
Edward C. Yang,
Acting Deputy Assistant Secretary for Antidumping and Countervailing Duty Operations.

[FR Doc. 2010-21406 Filed 8-26-10; 8:45 am]

BILLING CODE 3510-DS-S